COMMODITY FUTURES TRADING COMMISSION

17 CFR Part 3

Registration

CFR Correction

In Title 17 of the Code of Federal Regulations, Parts 1 to 40, revised as of April 1, 2015, on page 205, in § 3.45, revise paragraph (b) to read as follows:

§ 3.45 Restrictions upon activities.

* * * * *

(b) An applicant for registration as an introducing broker who has received a temporary license may be guaranteed by a futures commission merchant or retail foreign exchange dealer other than the futures commission merchant or retail foreign exchange dealer which provided the initial guarantee agreement described in § 3.44(a)(1) of this subpart: Provided, That, at least 10 days prior to the effective date of the termination of the existing guarantee agreement in accordance with the provisions of § 1.10 (j)(5) of this chapter, or such other period of time as the National Futures Association may allow for good cause shown, the applicant files with the National Futures Association—

(1) Written notice of such termination and

(2) A new guarantee agreement with another futures commission merchant or retail foreign exchange dealer effective the day following the last effective date of the existing guarantee agreement.

* * * * *

[FR Doc. 2016-05580 Filed 3-10-16; 8:45 am]

BILLING CODE 1505-01-D